DEPARTMENT OF JUSTICE

[OMB Number 1122-0011]

Agency Information Collection Activities; Proposed eCollection eComments Requested; Extension of a Currently Approved Collection: Semi-Annual Progress Report for Grantees From the Grants To Support Tribal Domestic Violence and Sexual Assault Coalitions Program (Tribal Coalitions Program)

AGENCY: Office on Violence Against Women, Department of Justice.

ACTION: 30-day notice.

SUMMARY: The Department of Justice (DOJ), Office on Violence Against Women (OVW), will be submitting the following information collection request to the Office of Management and Budget (OMB) for review and approval in accordance with the Paperwork Reduction Act of 1995. This proposed information collection was previously published in the Federal Register 79, Number 125, page 36820, on June 30, 2014, allowing for a 60-day comment period.

DATES: Comments are encouraged and will be accepted for an additional 30 days until September 29, 2014.

FOR FURTHER INFORMATION CONTACT: If you have additional comments especially on the estimated public burden or associated response time, suggestions, or need a copy of the proposed information collection instrument with instructions or additional information, please contact Cathy Poston, Office on Violence Against Women, at 202-514-5430. Written comments and/or suggestions can also be directed to the Office of Management and Budget, Office of Information and Regulatory Affairs, Attention Department of Justice Desk Officer, Washington, DC 20530 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: Semi-Annual Progress Report for Grantees from the Grants To Support Tribal Domestic Violence and Sexual Assault Coalitions Program (Tribal Coalitions Program).

3. The agency form number: 1122-0011.

4. Affected public who will be asked or required to respond, as well as a brief abstract:

Primary: Tribal Coalitions Program Grantees.

Other:

Abstract: The affected public includes the 14 grantees from the Tribal Coalitions Program. The Tribal Coalitions Program grantees include Indian tribal governments that will support the development and operation of new or existing nonprofit tribal domestic violence and sexual assault coalitions in Indian country. These grants provide funds to develop and operate nonprofit tribal domestic violence and sexual assault coalitions in Indian country to address the unique issues that confront Indian victims. The Tribal Coalitions Program provides resources for organizing and supporting efforts to end violence against Indian women.

OVW uses data from the information collection in different ways. OVW will use the information collected from Tribal Coalitions Program grantees to monitor their grant-funded activities. OVW will review each semi-annual progress report to monitor an individual grantee's performance, including the grant-funded activities, and to ensure that the goals and objectives set forth in applications for funding and award documents are met. In addition, information collected from grantees will enable OVW to respond to statutory requirements to report to Congress on the effectiveness of grant-funded activities.

5. An estimate of the total number of respondents and the amount of time estimated for an average respondent to respond: It is estimated that it will take the 14 respondents (grantees from the Tribal Coalitions Program) approximately one hour to complete a Semi-Annual Progress Report. The Semi-Annual Progress Report is divided into sections that pertain to the different types of activities that grantees may engage in with grant funds. Grantees must complete only those sections that are relevant to their activities.

6. An estimate of the total public burden (in hours) associated with the collection: 28 hours.

If additional information is required contact: Jerri Murray, Department Clearance Officer, United States Department of Justice, Justice Management Division, Policy and Planning Staff, Two Constitution Square, 145 N Street NE., 3E.405B, Washington, DC 20530.

Dated: August 26, 2014.
Jerri Murray,
Department Clearance Officer for PRA, U.S. Department of Justice.

[FR Doc. 2014-20586 Filed 8-28-14; 8:45 am]

BILLING CODE 4410-FX-P